DEPARTMENT OF AGRICULTURE

Forest Service

National Forests and Grasslands in Texas; Oil and Gas Leasing Availability Analysis Environmental Impact Statement

AGENCY: Forest Service, USDA,

ACTION: Notice of intent to prepare an environmental impact statement

SUMMARY: The National Forests and Grasslands in Texas (NFGT) are initiating the preparation of an environmental impact statement (EIS). The EIS will analyze and disclose the effects of identifying areas as available or unavailable for new oil and gas leasing. The proposed action identifies the following elements: What lands will be made available for future oil and gas leasing; what stipulations will be applied to lands available for future oil and gas leasing, and if there would be any plan amendments to the 1996 NFGT Revised Land and Resource Management Plan (Forest Plan).

DATES: Public comments concerning the scope of the analysis must be received by October 11, 2019. The draft EIS is expected in the winter of 2019, and the final EIS is expected in the fall of 2020.

ADDRESSES: Send written comments to Oil and Gas EIS Project, National Forests and Grasslands in Texas, 2221 N. Raguet Street, Lufkin, Texas 75904. Comments may also be submitted electronically through the project website: http://www.fs.usda.gov/goto/texas/oil-and-gas or via fax to (936) 639-8588.

FOR FURTHER INFORMATION CONTACT: Robert Potts, Natural Resources and Planning Staff Officer, at (936) 639-8539.

Individuals who use telecommunication devices for the deaf (TDD) may call the Federal Information Relay Service (FIRS) at 1 (800) 877-8339 between 8 a.m. and 8 p.m., Eastern Time, Monday through Friday.

SUPPLEMENTARY INFORMATION:

Purpose and Need for Action

The Forest Service withdrew its consent to lease NFGT lands from the Bureau of Land Management (BLM) for oil and gas development in 2016. The reason for the withdrawal of consent was due to stakeholder concerns, including insufficient public notification, insufficient opportunity for public involvement, and insufficient environmental analysis. Environmental impacts of oil and gas leasing were last evaluated in the 1996 Final EIS for the NFGT Forest Plan. That document did not include an analysis of current issues, such as current impacts on air pollution, or of technologies, such as horizontal drilling and hydraulic fracturing.

There is a need to analyze the impacts of new oil and gas development technologies on surface and subsurface water and geologic resources; air resources; fish and wildlife resources; fragile and rare ecosystems; threatened and endangered species; and invasive plant management. There is the need to examine changed conditions since the Forest Plan was published, such as increases in dispersed and developed recreation, wild and scenic river eligibility and suitability, and changed socioeconomic conditions. Tribes will also need to be consulted to identify needed protections for heritage resource areas.

These current issues and changed conditions need to be evaluated in determining which National Forest System (NFS) lands administered by the NFGT should be made available for future oil and gas leasing. Such an evaluation also is necessary to determine what lease stipulations should apply to those lands to protect resources.

The Forest Service will prepare an EIS to support the BLM's independent decision to include the NFGT administered NFS lands that are made available for leasing in future competitive oil and gas lease sales.

Proposed Action

The Forest Service proposes to identify NFGT administered lands that would be administratively available for future oil and gas leasing; to identify which stipulations would be applied to protect resources on lands available for future oil and gas leasing; and to determine if the 1996 NFGT Forest Plan should be amended. The Forest Service's analysis will not affect current valid leasing, including the associated terms, conditions, and stipulations. The EIS also would not affect the exercising of reserved and outstanding mineral rights on NFS lands. The proposed changes would apply only to new leases for federal minerals that may be issued.

Following an initial evaluation of the need to change current direction, the following actions are being proposed to address those areas and management directions that need to be changed. Management direction and the acres provided below would apply to the decision area. The decision area includes only those NFGT lands where the Forest Service manages the surface and the underlying mineral estate is federally managed by the BLM. The total decision area is approximately 447,000 acres.

• Both current management and the proposed action would maintain 38,300 acres as closed for congressionally-designated wilderness areas.

• The proposed action would convert Controlled Surface Use (CSU) stipulations to No Surface Occupancy (NSO) stipulations for natural heritage botanical areas and reservoirs on the NFGT. This would decrease the number of acres with a CSU stipulation from approximately 73,100 to 63,100 acres.

• The proposed action would remove the current turkey nesting Timing Limitation (TL) stipulation.

• The proposed action would add NSO stipulations to protect natural heritage botanical areas, special status species, unique prairie vegetation communities, inclusional wetlands, sensitive aquatic areas, natural springs, and steep slopes. This would increase the numbers of acres with a NSO stipulation from approximately 11,100 to 28,000 acres.

• Several NSO and CSU stipulations would require site-specific surveys to identify areas where the stipulation applies. This includes red-cockaded woodpecker (RCW) NSO and CSU stipulations for cavity trees, cluster sites, and foraging habitat. These RCW stipulations would apply in Management Area 2, which includes approximately 226,700 acres of the decision area. Site-specific surveys are also required to determine CSU areas for the protection of 100-year floodplains and intermittent and perennial waterways.

• Existing NSO and CSU stipulations related to erodible soils, flood control structures, Research Natural Areas, developed recreation sites, scenic areas and Lake Conroe would be updated to improve implementability.

• New stipulations to address invasive plants, restoration seed mixes, and soil stability associated with well pad construction would also be added.

The NFGT website at http://www.fs.usda.gov/goto/texas/oil-and-gas includes a listing of the proposed stipulation changes, a map of the existing stipulations and where they are applied, and a map of the proposed action stipulations and where they would be applied.

Proposed Amendment to the NFGT Forest Plan

The proposed action would also amend the existing NFGT Forest Plan. The 36 CFR 219 regulations pertaining to NFS land management planning (the planning rule) require that the responsible official provide notice “about which substantive requirements of §§ 219.8 through 219.11 are likely to be directly related to the amendment” (36 CFR 219.13(b)(2)). Whether a rule provision is directly related to an amendment is determined by any one of the following: the purpose for the amendment, a beneficial effect of the amendment, a substantial adverse effect of the amendment, or a lessening of plan protections by the amendment (36 CFR 219.13(b)(5)).

Under the proposed action, the Forest Plan would be amended to include the following restrictions on the lands available for leasing:

• NSO for the limestone areas on the Lyndon B. Johnson (LBJ) National Grassland (NG), the blackland praries on the Sam Houston NF and Caddo NG, habitat areas for the Louisiana Pine Snake, RCW cluster sites, slopes greater than 15 percent, inclusional wetlands, sensitive aquatic areas, and natural springs.

• CSU for the RCW breeding season.

The following 36 CFR 219 requirements will likely be “directly related” to this LRMP amendment:

• 36 CFR 219.8(a)(2)(ii)—The plan must include plan components to maintain or restore: “Soils and soil productivity, including guidance to reduce soil erosion and sedimentation.”

• 36 CFR 219.8(a)(2)(iv)—The plan must include plan components to maintain or restore: “Water resources in the plan area, including lakes, streams, and wetlands.”

• 36 CFR 219.9(a)(2)(ii)—The plan must include plan components to maintain or restore: “Rare aquatic and terrestrial plant and animal communities.”

• 36 CFR 219.9(b)(1)—The responsible official shall “provide the ecological conditions necessary to: contribute to the recovery of federally listed threatened and endangered species.”

• 36 CFR 219.10(a)(2)—When developing plan components for integrated resource management the responsible official shall consider: “Renewable and nonrenewable energy and mineral resources.”

Preliminary Issues

A preliminary list of issues that will be reviewed during this analysis is as follows:

• Impacts on areas of the forest where air pollution levels have not met the National Ambient Air Quality Standards for criteria air pollutants and have been designated as nonattainment areas.

• Impacts on surface and subsurface water quantity and quality, including public water supplies.

• Impacts from well pad and steep slope erosion and seditment transport into streams, wetlands, or other sensitive aquatic areas.

• Impacts from noxious and invasive weed spread.

• Impacts on rare plants and ecosystems.

• Fragmentation, removal, or disturbances on wildlife corridors, critical wildlife habitats, and other important or sensitive wildlife habitats.

• Impacts on threatened and endangered species, such as the RCW and Louisiana pine snake.

• Impacts on prescribed rangeland conservation burning and reforestation management.

• Traffic, noise, light pollution, and visual impacts on nearby residents, visitors, and other forest users.

• Impacts on royalty payments to counties associated with any changes in oil and gas leasing.

• Impacts on special designations and impacts on wilderness character.

• Impacts on recreationists and loss of recreation opportunities.

• Impacts on geologic features on the NFGT, including salt domes, and potential for induced seismicity.

Additional issues may be identified based on comments received during this public scoping period.

Preliminary Alternatives

In the EIS, the Forest Service will analyze the No Action Alternative (the existing oil and gas leasing alternative), the Proposed Action Alternative, and a No Leasing Alternative. Some possible additional alternatives would be ones that add NSO stipulations to: all streamside management zones, the Longleaf Pine Special Area, streams eligible for Wild and Scenic River designation, bottomland areas, all lands within RCW Habitat Management Areas, and habitat areas associated with the Neches River rose mallow. Other alternatives may also be developed and considered, in order to address issues raised during the scoping process.

Nature of Decision To Be Made

Based on the analysis and information contained in the EIS, the Forest Supervisor will decide which areas will be open to development, subject to standard oil and gas leasing terms and conditions; and which areas will be open to development, subject to NSO, CSU, or TL stipulations. The Forest Supervisor also will decide under what conditions the Forest Service will authorize the BLM to modify, waive, or grant an exception to a stipulation. In accordance with leasing analysis requirements in 36 CFR 228.102, the Forest Supervisor will consider alternatives to the proposal, including that of not allowing leasing. Whether or not to lease specific lands is not part of this decision.

Decision Will Be Subject to Objection

Before a decision is made, oil and gas leasing availability will be subject to the pre-decisional administrative review process (the objection process) outlined in 36 CFR 218; however, the decision to amend the Forest Plan for the NFGT will be subject to the objection process identified in 36 CFR 219 Subpart B. These two pre-decisional objection processes will run concurrently.

Under both the 36 CFR 218 and 219 administrative review processes, only those individuals and entities who have previously submitted substantive formal comments on the proposed project or the plan amendment may file an objection. Comments can be submitted by the public during scoping or any other designated opportunities for comment.

Scoping Process

This Notice of Intent initiates the scoping process, which guides the development of the EIS by helping to define its scope. The Forest Service requests input on the proposed action, the proposed amendment to the Forest Plan, the content of the EIS, the issues and impacts to be addressed in the EIS, and the alternatives that it should consider. During scoping, commenters should clearly describe specific issues or topics that the EIS should address. This will assist the Forest Service in identifying significant environmental, social, and economic issues related to oil and gas leasing on NFS lands administered by the NFGT. The public may also provide comments on any other 36 CFR 219 substantive requirements that are likely to be “directly related” to the proposed plan amendment (refer to 36 CFR 219.13(b)(2)).

Four public meetings are planned. The meeting addresses, dates, and times will be provided on the project website, http://www.fs.usda.gov/goto/texas/oil-and-gas.

It is important that reviewers provide their comments before the Forest Service begins preparing the EIS; therefore, comments should be provided before the scoping period closes, and commenters should clearly articulate their concerns about the alternatives and potential impacts. Comments received in response to this solicitation, including names and addresses of those who comment, will be part of the public record for this proposed action. Comments submitted anonymously will be accepted and considered; however, anonymous comments will not provide the respondent with eligiblity to participate in subsequent administrative review or judicial review.

Lead and Cooperating Agencies

The Forest Service, NFGT, is the lead agency and the BLM, New Mexico State Office, is a cooperating agency in this analysis.

Responsible Official

The responsible official is William E. Taylor, Jr., Forest Supervisor, National Forests and Grasslands in Texas, 2221 N. Raguet Street, Lufkin, Texas 75904.

Dated: July 25, 2019.
Frank R. Beum,
Acting Associate Deputy Chief, National Forest System.

[FR Doc. 2019-18357 Filed 8-26-19; 8:45 am]

BILLING CODE 3411-15-P